DEPARTMENT OF ENERGY

Federal Energy Regulatory Commission

[Docket No. EL01-39-000]

The Consumers of New England v. New England Power Pool; Notice of Complaint

February 26, 2001.

Take notice that on February 22, 2001, The Consumers of New England tendered for filing a complaint with the Federal Energy Regulatory Commission requesting immediate reform of New England Power Pool governance.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before March 14, 2001. Protests will be considered by the Commission in determining the appropriate action to be taken, but will not serve to make protestants parties to the proceeding. Any person wishing to become a party must file a motion to intervene. Copies of this filing are on file with the Commission and are available for public inspection in the Public Reference Room. This filing may also be viewed on the Internet at ­ http://www.ferc.fed.us./online/rims.htm (call 202-208-2222) for assistance. Answers to the complaint shall also be due on or before March 14, 2001. Comments and protests may be filed electronically via the internet in lieu of paper. See, 18 CFR 385.2001(a)(1)(iii) and the instructions on the Commission's web site at http://www.ferc.fed.us/efi/doorbell.htm.

David P. Boergers,
Secretary.

[FR Doc. 01-5105 Filed 3-1-01; 8:45 am]

BILLING CODE 6717-01-M